INTERNATIONAL TRADE COMMISSION

Notice of Appointment of Individuals To Serve as Members of the Performance Review Board

AGENCY: United States International Trade Commission.

ACTION: Appointment of Individuals to Serve as Members of Performance Review Board.

DATES: Effective Date: September 22, 2016.

SUMMARY: The Chairman of the U.S. International Trade Commission has appointed the following individuals to serve on the Commission's Performance Review Board (PRB):

Chair of the PRB: Vice Chairman David S. Johanson

Vice-Chair of the PRB: Commissioner Dean A. Pinkert

Member—Kirit Amin

Member—John Ascienzo

Member—Michael Anderson

Member—Dominic Bianchi

Member—Jonathan Coleman

Member—Catherine DeFilippo

Member—James Holbein

Member—Margaret Macdonald

Member—Stephen A. McLaughlin

Member—William Powers

Member—Lyn M. Schlitt

FOR FURTHER INFORMATION CONTACT: Eric Mozie, Director of Human Resources, U.S. International Trade Commission (202) 205-2651.

AUTHORITY: This notice is published in the Federal Register pursuant to the requirement of 5 U.S.C. 4314(c)(4). Hearing impaired individuals are advised that information on this matter can be obtained by contacting our TDD terminal on (202) 205-1810.

By order of the Commission.
Issued: September 27, 2016.
Katherine M. Hiner,
Acting Supervisory Attorney.

[FR Doc. 2016-23716 Filed 9-30-16; 8:45 am]

BILLING CODE 7020-02-P